DEPARTMENT OF COMMERCE

International Trade Administration

[A-570-601]

Tapered Roller Bearings and Parts Thereof, Finished and Unfinished, From the People's Republic of China: Rescission of Antidumping Duty New Shipper Review

AGENCY: Import Administration, International Trade Administration, Department of Commerce.

SUMMARY: On June 17, 2011, the Department of Commerce (“Department”) issued its preliminary intent to rescind the new shipper review (“NSR”) of Xiang Yang Automobile Bearing Co., Ltd. (“ZXY”).¹ We gave interested parties an opportunity to comment on the Intent to Rescind Memorandum. We did not receive any comments from the interested parties. We are rescinding this NSR because we have found that ZXY exported subject merchandise to the United States more than one year prior to its request for an NSR.

¹ See Memorandum to the File, from Wendy J. Frankel, Office Director, through Christian Marsh, Deputy Assistant Secretary for Antidumping and Countervailing Duty Operations, Intent to Rescind the New Shipper Review of Xiang Yang Automobile Bearing Co., Ltd. (“ZXY”), dated June 17, 2011 (“Intent to Rescind Memorandum”).

DATES: Effective Date: July 20, 2011.

FOR FURTHER INFORMATION CONTACT: Andrew Medley, AD/CVD Operations, Office 8, Import Administration, International Trade Administration, U.S. Department of Commerce, 14th Street and Constitution Avenue, NW., Washington, DC 20230; telephone: (202) 482-4987.

SUPPLEMENTARY INFORMATION:

Case History

On January 14, 2011, the Department received a timely request from ZXY for an NSR of the antidumping duty order on tapered roller bearings and parts thereof, finished and unfinished, from the People's Republic of China (“PRC”). On February 4, 2011, the Department published the initiation of the NSR with a June 1, 2010, through November 30, 2010 period of review (“POR”).²

² See Tapered Roller Bearings and Parts Thereof, Finished and Unfinished From the People's Republic of China: Initiation of Antidumping Duty New Shipper Review, 76 FR 6397 (February 4, 2011).

On June 17, 2011, the Department issued a memorandum announcing its intent to rescind this NSR for ZXY because ZXY shipped subject merchandise to the United States more than one year prior to its request for an NSR. See Intent to Rescind Memorandum. The Department did not receive any comments in response to the Intent to Rescind Memorandum.

Scope of the Order

Imports covered by the order are shipments of tapered roller bearings and parts thereof, finished and unfinished, from the PRC; flange, take up cartridge, and hanger units incorporating tapered roller bearings; and tapered roller housings (except pillow blocks) incorporating tapered rollers, with or without spindles, whether or not for automotive use. These products are currently classifiable under Harmonized Tariff Schedule of the United States (“HTSUS”) item numbers 8482.20.00, 8482.91.00.50, 8482.99.15, 8482.99.45, 8483.20.40, 8483.20.80, 8483.30.80, 8483.90.20, 8483.90.30, 8483.90.80, 8708.99.80.15 ³ and 8708.99.80.80.⁴ Although the HTSUS item numbers are provided for convenience and customs purposes, the written description of the scope of the order is dispositive.

³ Effective January 1, 2007, the HTSUS subheading 8708.99.8015 is renumbered as 8708.99.8115. See United States International Trade Commission (“USITC”) publication entitled, “Modifications to the Harmonized Tariff Schedule of the United States Under Section 1206 of the Omnibus Trade and Competitiveness Act of 1988,” USITC Publication 3898 (December 2006) found at http://www.usitc.gov.

⁴ Effective January 1, 2007, the HTSUS subheading 8708.99.8080 is renumbered as 8708.99.8180; see id.

Rescission of Review

As stated in the Intent to Rescind Memorandum, the Department has determined that ZXY is not a new shipper, because ZXY shipped subject merchandise one year prior to its request for an NSR. Therefore, ZXY is not entitled to an NSR for this entry currently under review because ZXY did not fulfill the requirements under 19 CFR 351.214(c) that the NSR be requested within one year of the date on which subject merchandise was first entered, or withdrawn from warehouse, for consumption. Accordingly, we are rescinding this NSR. Because the Department is rescinding this NSR, we are not determining whether ZXY is separate from the PRC-wide entity, and we are not calculating a company-specific rate for ZXY.

Cash Deposit Requirements

The following cash deposit requirements will be effective upon publication of this rescission of the NSR for all shipments of subject merchandise exported by ZXY, entered, or withdrawn from warehouse, for consumption on or after the publication date, as provided by section 751(a)(2)(C) of the Tariff Act of 1930, as amended (“Act”): (1) For subject merchandise exported by ZXY (regardless of producer), as part of the PRC-wide entity, the cash deposit rate will be 92.84 percent; and (2) for subject merchandise manufactured by ZXY, but exported by any party other than ZXY, the cash deposit rate will be the rate applicable to the exporter. These cash deposit requirements will remain in effect until further notice.

Liquidation

Because the POR of this NSR falls within the POR of the next administrative review of TRBs from the PRC (June 1, 2010 through May 31, 2011), and the initiation of that administrative review has not yet occurred, the Department will not order liquidation of entries for the PRC-entity (of which ZXY is a part) at this time. Upon completion of the June 1, 2010, through May 31, 2011, administrative review, the Department will issue assessment instructions to U.S. Customs and Border Protection as appropriate.

This notice serves as a reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

Administrative Protective Orders

This notice also serves as a reminder to parties subject to administrative protective order (“APO”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

We are issuing and publishing this determination in accordance with section 777(i) of the Act, 19 CFR 351.214(h) and 351.221(b)(5).

Dated: July 14, 2011.
Christian Marsh,
Deputy Assistant Secretary for Antidumping and Countervailing Duty Operations.

[FR Doc. 2011-18293 Filed 7-19-11; 8:45 am]

BILLING CODE 3510-DS-P